DEPARTMENT OF DEFENSE

Office of the Secretary

Privacy Act of 1974; System of Records

AGENCY: Office of the Secretary, DoD.

ACTION: Notice to amend a system of records.

SUMMARY: The Office of the Secretary of Defense proposes to amend one system of records notice in its inventory of record systems subject to the Privacy Act of 1974 (5 U.S.C. 552a), as amended.

DATES: The changes will be effective on December 20, 2001 unless comments are received that would result in a contrary determination.

ADDRESSES: Send comments to OSD Privacy Act Coordinator, Records Management Section, Washington Headquarters Services, 1155 Defense Pentagon, Washington, DC 20301-1155.

FOR FURTHER INFORMATION CONTACT: Mr. David Bosworth at (703) 601-4725.

SUPPLEMENTARY INFORMATION: The Office of the Secretary of Defense notices for systems of records subject to the Privacy Act of 1974 (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: November 9, 2001.
L. M. Bynum,
Alternate OSD Federal Register Liaison Officer, Department of Defense.

DSMC 02

System Name:

Defense Systems Management College (DSMC) Student Files (February 22, 1993, 58 FR 10227).

Changes:

* * * * *

System Name:

Delete entry and replace with ‘Defense Acquisition University Student Files’.

System Location:

Delete entry and replace with ‘Office of the Registrar, Defense Acquisition University, 9820 Belvoir Road, Ft. Belvoir, VA 22060-5565.’

Categories of Individuals Covered by the System:

Replace ‘Defense Systems Management College (DSMC)’ with ‘Defense Acquisition University’.

* * * * *

Storage:

Add to entry ‘and computerized data bases.’

Retrievability:

Add to the entry ‘Computer databases are accessed by name and Social Security Number.’

Safeguards:

Add to entry ‘Computer records are protected by individual passwords and the system is a security-accredited web based network.’

* * * * *

System Manager(s) and Address:

Delete entry and replace with ‘Registrar, Defense Acquisition University, 9820 Belvoir Road, Ft. Belvoir, VA 22060-5565.’

* * * * *

DSMC 02

System Name:

Defense Acquisition University Student Files.

System Location:

Office of the Registrar, Defense Acquisition University, 9820 Belvoir Road, Ft. Belvoir, VA 22060-5565.

Categories of Individuals Covered by the System:

All current, former, and nominated students of the Defense Acquisition University (DAU).

Categories of Records in the System:

Data includes name, dependent data, Social Security Number, career brief application form, security clearance, college transcripts, correspondence, DAU grades, instructor and advisor evaluations, education reports, official orders, current address, and individual’s photograph and other personal and experience historical data on past and present students.

Authority for Maintenance of the System:

10 U.S.C. 136, Under Secretary of Defense for Personnel and Readiness; DoD Directive 5000.57, Defense Acquisition University; and E.O. 9397 (SSN).

Purpose(s):

This data is used by college officials to provide for the administration of and a record of academic performance of current, former, and nominated students; to verify attendance and grades; to select instructors; to make decisions to admit students to programs and to release students from programs; to serve as a basis for studies to determine improved criteria for selecting students; to develop statistics relating to duty assignments and qualifications. This data is used by the Registrar in preparing locator directories of current and former students which are disseminated to students, former students and other appropriate individuals and agencies for purposes of administration; by college officials in preparing student biographical booklets, student rosters, and press releases of student graduations and to evaluate quality content of various courses. This data may be transferred to any agency of the Department of Defense having an official requirement for the information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Paper records in file folders and computerized databases.

Retrievability:

Filed records are sequenced alphabetically by last name, by class, and course. Locator cards are filed alphabetically in two categories, active students (by course) and former students. Computer databases are accessed by name and Social Security Number.

Safeguards:

Records are maintained in locked cabinets, in an area accessible only to authorized personnel. Building is locked during non-business hours. Only individuals designated as having a need for access to files by the system manager are authorized access to information in the files. Computer records are protected by individual passwords and the system is a security-accredited web based network.

Retention and Disposal:

Records are permanent.

System Manager(s) and Address:

Registrar, Defense Acquisition University, ATTN: 9820 Belvoir Road, Ft. Belvoir, VA 22060-5565.

Notification Procedure:

Individuals seeking to determine whether information about themselves is contained in this system should address written inquiries to the Registrar, Defense Acquisition University, ATTN: HQ-AS-REG, 9820 Belvoir Road, Ft. Belvoir, VA 22060-5565.

Written requests for information should contain full name, Social Security Number, current address and telephone number, and course and class of individual, and must be signed.

Record Access Procedures:

Individuals seeking access to information about themselves contained in this system should address written inquiries to the Registrar, Defense Acquisition University, ATTN: HQ-AS-REG, 9820 Belvoir Road, Ft. Belvoir, VA 22060-5565.

Written requests for information should contain full name, Social Security Number, current address and telephone number, and course and class of individual, and must be signed.

For personal visits, the individual must provide acceptable identification, such as an ID card or driver's license.

Contesting Record Procedures:

The OSD rules for accessing records, for contesting contents and appealing initial agency determinations are published in OSD Administrative Instruction 81; 32 CFR part 311; or may be obtained from the system manager.

Record Source Categories

Information is provided by the individual, supervisors, employers, instructors, advisors, examinations, and official military records.

Exemptions Claimed for the System:

None.

[FR Doc. 01-28895 Filed 11-19-01; 8:45 am]

BILLING CODE 5001-08-P